DEPARTMENT OF ENERGY

Federal Energy Regulatory Commission

[Docket No. AD18-12-000; Docket No. EL17-45-000; Docket No. ER18-370-000]

Notice Inviting Post-Technical Conference Comments; Transmission Planning Within the California Independent System Operator Corporation; California Public Utilities Commission, Northern California Power Agency, City and County of San Francisco, State Water Contractors, Transmission Agency of Northern California v. Pacific Gas and Electric Company; Southern California Edison Company

On May 1, 2018, Federal Energy Regulatory Commission (Commission) staff convened a technical conference to discuss the processes used by participating transmission owners (PTOs) in the California Independent System Operator Corporation (CAISO) to determine which transmission-related maintenance and compliance activities/facilities, including, but not limited to, transmission-related capital additions, are subject to the CAISO Transmission Planning Process (TPP).

All interested persons are invited to file post-technical conference comments on the topics relating to the processes used by PTOs to determine which activities/facilities are subject to the CAISO TPP as discussed during the technical conference, including the questions listed in the Supplemental Notice issued in this proceeding on April 10, 2018. Commission staff is particularly interested in comments on the following topics:

1. Technical conference participants used the terms asset management and asset management program during the technical conference. Please provide a definition for those terms when they are used to address or administer transmission capability.

2. Describe the criteria, standards, or industry best practices that the PTOs use in their asset management programs or activities.

3. Technical conference participants used the terms “incremental” and “incidental” at the technical conference. Provide a definition for those terms when they are used to describe any increases to transmission capability that result from the use of new technology when replacing one-for-one assets.

4. Explain how any incremental or incidental increases to transmission capacity are accounted for by each PTO in relation to “asset management” activities, and how these increases in transmission capacity are communicated to CAISO.

5. Technical conference participants used the terms “expansion” and “enhancement” at the technical conference. Provide the definitions of those terms when they are used to describe certain changes to the configuration of the CAISO transmission system resulting from “asset management” activities that are subject to the CAISO TPP.

6. Do CAISO's tariff or BPMs provide guidance and clarity to CAISO PTOs regarding what transmission-related maintenance and compliance activities/facilities must be considered and reviewed through CAISO's TPP? If so, please list the relevant sections.

7. How does each CAISO PTO decide whether to pursue reliability related transmission-related maintenance and compliance activities/facilities that are not required by the North American Electric Reliability Corporation (NERC), Western Electricity Coordinating Council (WECC), or other regulatory entities? What criteria or parameters are used by each CAISO PTO to make this decision? Where are such criteria or parameters documented or otherwise made available?

8. Is there a difference between (a) the process through which each CAISO PTO pursues solutions to transmission-related maintenance and compliance activities/facilities that arise from NERC and WECC reliability standards or reliability standards established by other regulatory entities, and (b) the process through which each CAISO PTO pursues solutions to other transmission-related maintenance and compliance activities/facilities? If so, please explain (1) the difference between the two processes and (2) elaborate on the reasons for the differences.

9. What benefits and/or concerns, if any, would arise from introducing greater transparency and more opportunities for stakeholder input into each CAISO PTO's asset management process in the early stages of the assessment, ranking, and selection of particular “asset management” projects? To the extent that you support additional opportunities for stakeholder input, please describe the ideal format and/or frequency of such opportunities.

Commenters need not respond to all topics or questions asked. Commenters may reference materials previously filed in the above-captioned dockets, including the technical conference transcript, but are encouraged to avoid repetition or replication of previous material. Initial comments must be submitted on or before May 31, 2018, and reply comments must be submitted on or before June 15, 2018. Initial comments should not exceed 15 pages and reply comments should not exceed 10 pages.

For further information, please contact individuals identified for each topic:

Technical Information, Laura Switzer, Office of Energy Markets Regulation, Federal Energy Regulatory Commission, 888 First Street NE, Washington, DC 20426, (202) 502-6231, laura.switzer@ferc.gov.

Legal Information for Docket Nos. AD18-12-000 and EL17-45-000, Linda Kizuka, Office of the General Counsel, Federal Energy Regulatory Commission, 888 First Street NE, Washington, DC 20426, (202) 502-8773, linda.kizuka@ferc.gov.

Legal Information for Docket Nos. AD18-12-000 and ER18-370-000, Susanna Ehrlich, Office of the General Counsel, Federal Energy Regulatory Commission, 888 First Street NE, Washington, DC 20426, (202) 502-6260, susanna.ehrlich@ferc.gov.

Dated: May 15, 2018.
Nathaniel J. Davis, Sr.,
Deputy Secretary.

[FR Doc. 2018-10724 Filed 5-18-18; 8:45 am]

BILLING CODE 6717-01-P